DEPARTMENT OF THE TREASURY

Submission for OMB Review; Comment Request

February 22, 2007.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 28, 2008 to be assured of consideration.

Alcohol and Tobacco Tax and Trade Bureau (TTB)

OMB Number: 1513-0033.

Type of Review: Extension.

Title: Tobacco Products Manufacturers—Supporting Records for Removals for the Use of the United States.

Description: Tobacco products and cigarette papers and tubes are taxed under the Internal Revenue Code of 1986, as amended. These items can be removed without the payment of tax if they are for the use of the United States. In order to safeguard taxes, tobacco products manufacturers are required to maintain a system of records designed to establish accountability over the tobacco products and cigarette papers and tubes produced. Records must be retained by the manufacturer for 3 years following the close of the year covered therein and must be made available for inspection by any TTB officer upon his/her request.

Respondents: Business and other for profits.

Estimated Total Burden Hours: 505 hours.

OMB Number: 1513-0050.

Type of Review: Revision.

Title: Special Tax “Renewal” Registration and Return.

Form: TTB F 5630.5R.

Description: 26 U.S.C. Chapters 51, 52, and sections 4181 and 4182 authorize collection of special taxes from persons engaging in certain businesses. TTB Form 5630.5R is used to compute tax and as an application for registry.

Respondents: Business and other for profits.

Estimated Total Burden Hours: 87,500 hours.

Clearance Officer: Frank Foote, (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Robert Dahl,
Treasury PRA Clearance Officer.

[FR Doc. E8-3692 Filed 2-26-08; 8:45 am]

BILLING CODE 4810-31-P